DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: NIST Summer Institute for Middle School Science Teachers (NIST Summer Institute) and the NIST Research Experience for Teachers (NIST RET) Programs Application Requirements.

OMB Control Number: 0693-0059.

Form Number(s): NIST-1103.

Type of Request: Regular submission (revision of a currently approved information collection).

Number of Respondents: 100.

Average Hours per Response: 1.

Burden Hours: 100.

Needs and Uses: The NIST Summer Institute and the NIST RET are two competitive financial assistance (cooperative agreement) programs that offer middle school (Grades 6-8) science teachers an opportunity to participate in hands-on activities, lectures, tours, visits, or in scientific research with scientists and engineers in NIST laboratories. The aim is to encourage them to inspire students to pursue careers in science, technology, engineering, and mathematics (STEM) fields. This request is for the information collection for form NIST-1103 that must be completed by nominated teachers. The information is used in making cooperative agreement decisions.

Revision: The NIST 1103-A, previously used by DC Public School Teachers applicants due to a separate allowance for a late application period, has been removed from this information collection request. DC teachers have applied during the regular application process using NIST 1103.

Affected Public: U.S. public school districts, U.S. accredited private educational institutions, and U.S. middle school (Grades 6-8) science teachers.

Frequency: Annually.

Respondent's Obligation: Required to obtain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 18, 2014.
Gwellnar Banks,
Management Analyst, Office of the Chief Information Officer.

[FR Doc. 2014-19902 Filed 8-21-14; 8:45 am]

BILLING CODE 3510-13-P